Title 3—

The President

Proclamation 7657 of March 28, 2003

To Take Certain Actions Under the African Growth and Opportunity Act With Respect to the Republic of The Gambia and the Democratic Republic of Congo

By the President of the United States of America

A Proclamation

1. Section 506A(a)(1) of the Trade Act of 1974, as amended (the “1974 Act”) (19 U.S.C. 2466a(a)(1)), as added by section 111(a) of the African Growth and Opportunity Act (title I of Public Law 106-200) (AGOA), authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

2. Section 104 of the AGOA authorizes the President to designate a country listed in section 107 of the AGOA as an “eligible sub-Saharan African country” if the President determines that the country meets certain eligibility requirements.

3. Section 112(b)(3)(B) of the AGOA (19 U.S.C. 3721(b)(3)(B)) provides special rules for certain apparel articles imported from “lesser developed beneficiary sub-Saharan African countries.”

4. Pursuant to section 104 of the AGOA and section 506A(a)(1) of the 1974 Act, I have determined that the Republic of The Gambia (The Gambia) meets the eligibility requirements set forth or referenced therein, and I have decided to designate The Gambia as an eligible sub-Saharan African country and as a beneficiary sub-Saharan African country.

5. Pursuant to section 104 of the AGOA, I have determined that the Democratic Republic of Congo (DROC) meets the eligibility criteria set forth therein, and I have decided to designate DROC as an eligible sub-Saharan African country.

6. I have further decided to authorize the United States Trade Representative (USTR) to exercise the authority provided to the President under section 506A(a)(1) of the 1974 Act with respect to DROC. The USTR shall announce any such exercise of authority in a notice published in the Federal Register.

7. The Gambia satisfies the criterion for treatment as a “lesser developed beneficiary sub-Saharan African country” under section 112(b)(3)(B) of the AGOA. DROC, if it is designated as a beneficiary sub-Saharan African country, would also satisfy the criterion for treatment as a “lesser developed beneficiary sub-Saharan African country” under section 112(b)(3)(B) of the AGOA.

8. Section 604 of the 1974 Act (19 U.S.C. 2483) authorizes the President to embody in the Harmonized Tariff Schedule of the United States (HTS) the substance of the relevant provisions of that Act, and of other acts affecting import treatment, and actions thereunder, including the removal, modification, continuance, or imposition of any rate of duty or other import restriction.

9. With respect to any designation of DROC as a beneficiary sub-Saharan African country, I have decided to authorize the USTR to exercise the authority provided to the President under section 604 of the 1974 Act to embody modifications and technical or conforming changes in the HTS.

NOW, THEREFORE, I, GEORGE W. BUSH, President of the United States of America, acting under the authority vested in me by the Constitution and the laws of the United States of America, including sections 506A and 604 of the 1974 Act and section 104 of the AGOA, do proclaim that:

(1) The Gambia is designated as an eligible sub-Saharan African country and as a beneficiary sub-Saharan African country.

(2) In order to reflect this designation in the HTS, general note 16(a) to the HTS is modified by inserting in alphabetical sequence in the list of beneficiary sub-Saharan African countries “Republic of The Gambia.”

(3) DROC is designated as an eligible sub-Saharan African country.

(4) The USTR is authorized to exercise the authority provided to the President under section 506A(a)(1) of the 1974 Act with respect to DROC. The USTR shall announce any such exercise of authority in a notice published in the Federal Register. To implement any designation of DROC as a beneficiary sub-Saharan African country, the USTR is authorized to exercise the authority provided to the President under section 604 of the 1974 Act to embody modifications and technical or conforming changes in the HTS.

(5) For purposes of section 112(b)(3)(B) of the AGOA, The Gambia is a lesser developed beneficiary sub-Saharan African country. If it is designated as a beneficiary sub-Saharan African country, DROC would also be a lesser developed beneficiary sub-Saharan African country for purposes of section 112(b)(3)(B) of the AGOA.

(6) Any provisions of previous proclamations and Executive Orders that are inconsistent with this proclamation are superseded to the extent of such inconsistency.

(7) The modification to the HTS made by this proclamation shall be effective with respect to articles entered, or withdrawn from warehouse for consumption, on or after the date of publication of this proclamation in the Federal Register.

IN WITNESS WHEREOF, I have hereunto set my hand this twenty-eighth day of March, in the year of our Lord two thousand three, and of the Independence of the United States of America the two hundred and twenty-seventh.

B

[FR Doc. 03-8160

Filed 4-1-03; 8:45 am]

Billing code 3195-01-P